NATIONAL SCIENCE FOUNDATION

Advisory Committee for International Science and Engineering; Notice of Meeting

In accordance with Federal Advisory Committee Act (Pub. L. 92-463, as amended), the National Science Foundation (NSF) announces the following meeting:

Name and Committee Code: Advisory Committee for International Science and Engineering (#25104).

Date and Time:

May 15, 2017; 8:00 a.m. to 5:00 p.m.;

May 16, 2017; 8:00 a.m. to 1:00 p.m.

Place: National Science Foundation, 4121 Wilson Boulevard, Stafford II, Suite 1155.01, Arlington, Virginia 22230.

Type of Meeting: Part-Open.

Contact Person: Roxanne Nikolaus, Program Manager, National Science Foundation, 4121 Wilson Boulevard, Stafford II, Suite 1155.01, Arlington, Virginia 22230; 703-292-8710.

Purpose of Meeting: To provide advice, recommendations and counsel on major goals and policies pertaining to international programs and activities.

Agenda

Monday, May 15, 2017; 8:00 a.m.-5:00 p.m.

Office of International Science and Engineering Updates, including Countries and Regions and Programs and Analysis Clusters

Community Engagement—Follow-up on the November 2016 Advisory Committee-International Science and Engineering discussion of regional workshops

Student Programs—Discussion of NSF international programs for U.S. undergraduate and graduate students

OISE Strategic Planning—Discussion of overall strategy for international science collaboration (Closed Session)

Tuesday, May 16, 2017; 8:00 a.m.-1:00 p.m.

Meet with NSF leadership

International Vignettes—Discussion of examples of OISE investments

Reason for Closing: Session having to do with overall strategy for international science collaboration will include discussion of potential proposed agency actions and may properly be closed to the public under 5 U.S.C. 552b(c), (9), (B) of the Government in the Sunshine Act.

Dated: April 24, 2017.
Crystal Robinson,
Committee Management Officer.

[FR Doc. 2017-08480 Filed 4-26-17; 8:45 am]

BILLING CODE 7555-01-P